DEPARTMENT OF COMMERCE

National Institute of Standards and Technology

Malcolm Baldrige National Quality Award Board of Overseers

AGENCY: National Institute of Standards and Technology Department of Commerce.

ACTION: Notice of public meeting.

SUMMARY: Pursuant to the Federal Advisory Committee Act, 5 U.S.C. app. 2, notice is hereby given that there will be a meeting of the Board of Overseers of the Malcolm Baldrige National Quality Award on Thursday, May 31, 2001. The Board of Overseers is composed of eleven members prominent in the field of quality management and appointed by the Secretary of Commerce, assembled to advise the Secretary of Commerce on the conduct of the Baldrige Award. The purpose of this meeting is to discuss and review information received from the National Institute of Standards and Technology with the members of the Judges Panel of the Malcolm Baldrige National Quality Award. The agenda will include: Not-for-profit Baldrige Category; Expanding “For-profit” Business Category Eligibility; 2001 Baldrige Criteria Changes and Future Criteria Evolution; E-Baldrige Update; and Key Issues from the May 30 Judges' Meeting.

DATES: The meeting will convene May 31, 2001, at 8:30 a.m. and adjourn at 3 p.m. on May 31, 2001.

ADDRESSES: The meeting will be held at the National Institute of Standards and Technology, Administration Building Tenth Floor Conference Room, Gaithersburg, Maryland 20899.

FOR FURTHER INFORMATION CONTACT: Dr. Harry Hertz, Director, National Quality Program, National Institute of Standards and Technology, Gaithersburg, Maryland 20899, telephone number (301) 975-2361.

Dated: May 4, 2001.
Karen H. Brown,
Acting Director.

[FR Doc. 01-11883 Filed 5-10-01; 8:45 am]

BILLING CODE 3510-CN-M